DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than July 13, 2016.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: HIV Quality Measures Module OMB No. 0915-XXXX, New

Abstract: The Ryan White HIV/AIDS Program (RWHAP) provides entities funded by the Program with flexibility to respond effectively to the changing HIV epidemic, with an emphasis on providing life-saving and life-extending services for people living with HIV. All RWHAP recipients must follow certain legislative requirements, such as the establishment of clinical quality management programs, to assess their HIV services according to the most recent Public Health Service guidelines and to develop strategies to improve access to quality HIV services. The HIV Quality Measures Module (HIVQM Module) is a new voluntary data system that recipients funded under all Parts of the RWHAP may use to monitor their performance in providing quality HIV services. Recipients may enter data into the module on their HIV/AIDS Bureau (HAB) performance measures and then generate reports to assess their performance. Recipients may also compare their performance regionally and nationally against other recipients. The HAB performance measures comprise the following categories: (1) Core, (2) all ages, (3) adolescent/adult, (4) HIV-positive children, (5) HIV-exposed children, (6) medical case management, (7) oral health, (8) AIDS Drug Assistance Program (RWHAP's drug assistance program), and (9) systems-level. HAB created the HIVQM Module as an online tool to facilitate recipients in meeting the clinical quality management program requirement. The use of the module is voluntary for RWHAP recipients, but strongly encouraged.

Need and Proposed Use of the Information: The HIVQM Module will provide recipients an easy-to-use and structured platform to voluntarily continually monitor their performance in serving their clients, particularly in access to care and the provision of quality HIV services. The main purpose for the module is to help recipients set goals and monitor performance measures and their quality improvement projects. HRSA expects the HIVQM Module to better support clinical quality management, performance measurement, service delivery, and client monitoring at both the recipient and client levels. In addition, for recipients and sub-recipients participating in the Centers for Medicare and Medicaid Incentive Programs, such as the Medicare and Medicaid Electronic Health Records Incentive Program and the Physician Quality Reporting System, the module will be consistent to qualify and comply with the requirements to receive incentives from these programs.

The module will be available for data entry three times a year. The module will be accessible via the Ryan White Services Report (RSR), an existing online tool that grant recipients already use for required data collection of their services. Recipients will choose which performance measures they want to monitor and enter data accordingly. Reports or performance measures can be generated and reviewed by the recipients and their sub-recipients and can be compared with other RWHAP recipients by provider type, by region, and at the national level.

Likely Respondents: Ryan White HIV/AIDS Program Part A, Part B, Part C, and Part D recipients and sub-recipients.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
HIVQM Module | 2,316 | 3 | 6,948 | 1 | 6,948
Total | 2,316 |  | 6,948 |  | 6,948

Jason E. Bennett,
Director, Division of the Executive Secretariat.

[FR Doc. 2016-13846 Filed 6-10-16; 8:45 am]

BILLING CODE 4165-15-P